DEPARTMENT OF COMMERCE

Foreign-Trade Zones Board

Order No. 1466

Termination Of Foreign-Trade Subzones 133B and 133C, (Maytag Corporation), Herrin, Illinois and Newton, Iowa

Pursuant to the authority granted in the Foreign-Trade Zones Act of June 18, 1934, as amended (19 U.S.C. 81a-81u), and the Foreign-Trade Zones Board Regulations (15 CFR Part 400), the Foreign-Trade Zones Board has adopted the following order:

Whereas, on November 1, 1989, the Foreign-Trade Zones Board issued a grant of authority to the Quad-City Foreign-Trade Zone, Inc. (Quad-City) authorizing the establishment of Foreign-Trade Subzones 133B and 133C at the Maytag Corporation facilities in Herrin, Illinois and Newton, Iowa (Board Order 448, 54 FR 47246, 11/13/89);

Whereas, Quad-City advised the Board on August 9, 2005 (FTZ Docket 19-2006), that zone procedures were no longer needed at the facilities and requested voluntary termination of Subzones 133B and 133C;

Whereas, the request has been reviewed by the FTZ Staff and Customs and Border Protection officials, and approval has been recommended;

Now, therefore, the Foreign-Trade Zones Board terminates the subzone status of Subzones 133B and 133C, effective this date.

Signed at Washington, DC, this 26th day of July 2006.

David M. Spooner,
Assistant Secretary of Commerce for Import Administration, Alternate Chairman. Foreign-Trade Zones Board.
Attest:
Andrew McGilvray,
Acting Executive Secretary.

[FR Doc. E6-12816 Filed 8-7-06; 8:45 am]

Billing Code: 3510-DS-S